DEPARTMENT OF ENERGY

Federal Energy Regulatory Commission

Combined Notice of Filings #1

Take notice that the Commission received the following electric rate filings:

Docket Numbers: ER10-2354-002.

Applicants: Midway-Sunset Cogeneration Company.

Description: Notice of Change of Status of Midway Sunset Cogeneration Company.

Filed Date: 3/31/14.

Accession Number: 20140331-5489.

Comments Due: 5 p.m. ET 4/21/14.

Docket Numbers: ER10-2645-001; ER10-3050-001; ER10-2831-001; ER10-3081-006; ER10-1530-002; ER10-3082-003; ER13-2106-002; ER10-1529-002; ER10-3052-001; ER10-3083-003; ER10-3053-001.

Applicants: Baconton Power LLC, Cabazon Wind Partners, LLC, Colorado Green Holdings LLC, Equilon Enterprises LLC, Llano Estacado Wind, LP, Motiva Enterprises LLC, NedPower Mount Storm LLC, Northern Iowa Windpower LLC, Rock River I, LLC, Shell Chemical LP, Whitewater Hill Wind Partners, LLC.

Description: Notice of Non-Material Change in Status of Baconton Power LLC, et al.

Filed Date: 3/31/14.

Accession Number: 20140331-5522.

Comments Due: 5 p.m. ET 4/21/14.

Docket Numbers: ER12-1571-002; ER10-2543-001; ER11-2159-002.

Applicants: Verso Bucksport LLC, Verso Androscoggin LLC, Verso Maine Energy LLC.

Description: Notice of Non-Material Change in Status of the Verso MBR Companies.

Filed Date: 3/31/14.

Accession Number: 20140331-5525.

Comments Due: 5 p.m. ET 4/21/14.

Docket Numbers: ER13-1430-001; ER13-1561-001; ER10-2755-002; ER10-2739-005.

Applicants: Arlington Valley Solar Energy II, LLC, Centinela Solar Energy, LLC, Las Vegas Power Company, LLC, LS Power Marketing, LLC.

Description: Supplement to June 28, 2013 Triennial Market Power Analysis for the Southwest Region of the LS Power Development, LLC subsidiaries.

Filed Date: 3/31/14.

Accession Number: 20140331-5520.

Comments Due: 5 p.m. ET 4/21/14.

Docket Numbers: ER14-1205-001.

Applicants: Commonwealth Edison Company, Commonwealth Edison Company of Indiana, Inc., PJM Interconnection, L.L.C.

Description: ComEd submits compliance filing per 3/19/2014 Order in ER14-1205 to be effective 3/31/2014.

Filed Date: 3/31/14.

Accession Number: 20140331-5446.

Comments Due: 5 p.m. ET 4/21/14.

Docket Numbers: ER14-1394-000.

Applicants: PJM Interconnection, L.L.C.

Description: Errata to Transmittal Letter in Docket No. ER14-1394-000 to be effective N/A.

Filed Date: 4/1/14.

Accession Number: 20140401-5208.

Comments Due: 5 p.m. ET 4/22/14.

Docket Numbers: ER14-1610-000.

Applicants: East Kentucky Power Cooperative, Inc.

Description: Petition of East Kentucky Power Cooperative for Limited Waiver of PJM Interconnection, L.L.C. Open Access Transmission Tariff and Request for Expedited Action.

Filed Date: 3/28/14.

Accession Number: 20140328-5322.

Comments Due: 5 p.m. ET 4/7/14.

Docket Numbers: ER14-1618-000.

Applicants: Mega Energy of New England, LLC.

Description: Mega Energy of New England, LLC submits a notice of cancellation of its market-based rate tariff.

Filed Date: 3/31/14.

Accession Number: 20140331-0001.

Comments Due: 5 p.m. ET 4/21/14.

Docket Numbers: ER14-1626-000.

Applicants: Constellation NewEnergy, Inc.

Description: Revised Market-Based Rate Tariff to be effective 3/1/2014.

Filed Date: 3/31/14.

Accession Number: 20140331-5435.

Comments Due: 5 p.m. ET 4/21/14.

Docket Numbers: ER14-1627-000.

Applicants: Constellation Energy Commodities Group Maine, LLC.

Description: Revised Market-Based Rate Tariff to be effective 3/1/2014.

Filed Date: 3/31/14.

Accession Number: 20140331-5442.

Comments Due: 5 p.m. ET 4/21/14.

Docket Numbers: ER14-1628-000.

Applicants: Southwest Power Pool, Inc.

Description: 2014 Southwestern Power Administration Amendatory Agreement to be effective 3/1/2014.

Filed Date: 3/31/14.

Accession Number: 20140331-5445.

Comments Due: 5 p.m. ET 4/21/14.

Docket Numbers: ER14-1629-000.

Applicants: Pacific Gas and Electric Company.

Description: Amedment to BART NITSA to be effective 4/1/2014.

Filed Date: 3/31/14.

Accession Number: 20140331-5449.

Comments Due: 5 p.m. ET 4/21/14.

Docket Numbers: ER14-1630-000.

Applicants: Mantua Creek Solar, LLC.

Description: Mantua Creek Solar, LLC Application for Market-Based Rates to be effective 4/1/2014.

Filed Date: 3/31/14.

Accession Number: 20140331-5459.

Comments Due: 5 p.m. ET 4/21/14.

Docket Numbers: ER14-1631-000.

Applicants: Pacific Gas and Electric Company.

Description: CCSF IA—2014 Annual Adjustment to Traffic Light Costs to be effective 2/1/2014.

Filed Date: 4/1/14.

Accession Number: 20140401-5001.

Comments Due: 5 p.m. ET 4/22/14.

Docket Numbers: ER14-1632-000.

Applicants: Public Service Company of New Mexico.

Description: Modification of Real Power Loss Factor in OATT to be effective 6/1/2014.

Filed Date: 4/1/14.

Accession Number: 20140401-5109.

Comments Due: 5 p.m. ET 4/22/14.

Docket Numbers: ER14-1633-000.

Applicants: Public Service Company of New Mexico.

Description: Modification of Real Power Loss Factor GFA to be effective 6/1/2014.

Filed Date: 4/1/14.

Accession Number: 20140401-5110.

Comments Due: 5 p.m. ET 4/22/14.

Docket Numbers: ER14-1634-000.

Applicants: California Independent System Operator Corporation.

Description: 2014-04-01—TCAAmendment to be effective 6/1/2014.

Filed Date: 4/1/14.

Accession Number: 20140401-5192

Comments Due: 5 p.m. ET 4/22/14.

Docket Numbers: ER14-1635-000.

Applicants: PacifiCorp.

Description: OATT Revised Attachment H-1 (Rev Depreciation Rates 2014) to be effective 6/1/2014.

Filed Date: 4/1/14.

Accession Number: 20140401-5215.

Comments Due: 5 p.m. ET 4/22/14.

Docket Numbers: ER14-1636-000.

Applicants: Otter Tail Power Company.

Description: Revisions to Market-Based Rate Tariff to Clarify Category Status to be effective 6/1/2014.

Filed Date: 4/1/14.

Accession Number: 20140401-5248.

Comments Due: 5 p.m. ET 4/22/14.

Docket Numbers: ER14-1637-000.

Applicants: Public Service Company of Colorado.

Description: Public Service Company of Colorado 2013 Production Formula Rate Charges and Transmission Formula Rate Charges for Post-Retirement Benefits Other than Pensions.

Filed Date: 4/1/14.

Accession Number: 20140401-5254.

Comments Due: 5 p.m. ET 4/22/14.

Docket Numbers: ER14-1638-000.

Applicants: New England Power Pool Participants Committee.

Description: April 2014 Membership Filing to be effective 3/1/2014.

Filed Date: 4/1/14.

Accession Number: 20140401-5262.

Comments Due: 5 p.m. ET 4/22/14.

Take notice that the Commission received the following electric securities filings:

Docket Numbers: ES14-32-000.

Applicants: American Transmission Company LLC, ATC Management Inc.

Description: Application under Section 204 of the Federal Power Act for Authorization to Issue Securities of American Transmission Company LLC, et. al.

Filed Date: 4/1/14.

Accession Number: 20140401-5154.

Comments Due: 5 p.m. ET 4/22/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 1, 2014.
Nathaniel J. Davis, Sr.,
Deputy Secretary.

[FR Doc. 2014-07807 Filed 4-7-14; 8:45 am]

BILLING CODE 6717-01-P